DEPARTMENT OF COMMERCE

International Trade Administration

[A-469-824]

Thermal Paper From Spain: Final Determination of Sales at Less Than Fair Value

AGENCY: Enforcement and Compliance, International Trade Administration, Department of Commerce.

SUMMARY: The Department of Commerce (Commerce) determines that thermal paper from Spain is being, or is likely to be, sold in the United States at less than fair value (LTFV) for the period of investigation, October 1, 2019, through September 30, 2020.

DATES: Applicable September 30, 2021.

FOR FURTHER INFORMATION CONTACT: Abdul Alnoor, AD/CVD Operations, Office IV, Enforcement and Compliance, International Trade Administration, U.S. Department of Commerce, 1401 Constitution Avenue NW, Washington, DC 20230; telephone: (202) 482-4554.

SUPPLEMENTARY INFORMATION:

Background

On May 12, 2021, Commerce published in the Federal Register its preliminary affirmative determination in the LTFV investigation of thermal paper from Spain, in which it postponed the final determination until September 24, 2021.¹ Although Commerce invited interested parties to comment on the Preliminary Determination, no party did so.

¹ See Thermal Paper from Spain: Preliminary Affirmative Determination of Sales at Less Than Fair Value, Postponement of Final Determination, and Extension of Provisional Measures, 86 FR 26003 (May 12, 2021) (Preliminary Determination), and accompanying Preliminary Decision Memorandum.

Scope of the Investigation

The product covered by this investigation is thermal paper from Spain. For a complete description of the scope of this investigation, see the appendix to this notice.

Scope Comments

In accordance with the preamble to Commerce's regulations,² the Initiation Notice ³ set aside a period of time for parties to raise issues regarding product coverage (i.e., scope).⁴ On May 5, 2021, Commerce issued the Preliminary Scope Decision Memorandum.⁵ We received scope comments from interested parties, which we addressed in the Final Scope Decision Memorandum.⁶ Commerce did not modify the scope of this investigation since the Preliminary Determination.

² See Antidumping Duties; Countervailing Duties, Final Rule, 62 FR 27296 (May 19, 1997).

³ See Thermal Paper from Germany, Japan, the Republic of Korea, and Spain: Initiation of Less-Than-Fair-Value Investigations, 85 FR 69580 (November 3, 2020) (Initiation Notice).

⁴ See Initiation Notice.

⁵ See Memorandum, “Thermal Paper from Germany, Japan, the Republic of Korea, and Spain: Preliminary Scope Decision,” dated May 5, 2021 (Preliminary Scope Decision Memorandum).

⁶ See Memorandum, “Thermal Paper from Germany, Japan, the Republic of Korea, and Spain: Final Decision on General Scope Issues,” dated concurrently with, and herby adopted by, this notice (Final Scope Decision Memorandum).

Verification

Because the sole mandatory respondent in this investigation, Torraspapel S.A., did not respond to sections B-D of Commerce's antidumping duty questionnaire, Commerce reached the Preliminary Determination entirely on the basis of facts available with the application of adverse inferences (AFA). As such, because the Preliminary Determination was based entirely on AFA, we did not conduct a verification.

Use of Total Adverse Facts Available

Pursuant to sections 776(a) and (b) of the Tariff Act of 1930, as amended (Act), because Torraspapel S.A., did not respond to sections B-D of Commerce's antidumping duty questionnaire, we have continued to assign it the highest dumping margin alleged in the Petition, which is 41.45 percent.⁷ As explained in the Preliminary Determination, at initiation we found the 41.45 percent Petition dumping margin to be both reliable and relevant.⁸ Therefore, we corroborated the rate. No interested party commented on our decision to apply this rate to Torraspapel S.A.

⁷ See Preliminary Determination Preliminary Decision Memorandum.

⁸ Id.; see also section 776(c) of the Act; 19 CFR 351.308(c) and (d); and Final Determination of Sales at Less Than Fair Value and Affirmative Determination of Critical Circumstances, in Part: Light-Walled Rectangular Pipe and Tube from the People's Republic of China, 73 FR 35652, 35653 (June 24, 2008), and accompanying IDM at Comment 1.

All-Others Rate

Section 735(c)(5)(A) of the Act provides that the estimated weighted-average dumping margin for all other producers and exporters not individually investigated shall be equal to the weighted average of the estimated weighted-average dumping margins established for exporters and producers individually investigated, excluding dumping margins that are zero, de minimis, or determined entirely under section 776 of the Act (facts available). Pursuant to section 735(c)(5)(B) of the Act, if the estimated weighted-average dumping margins established for all of the exporters and producers individually examined are zero, de minimis or determined based entirely on facts available, Commerce may use any reasonable method to establish the estimated weighted-average dumping margin for all-other producers or exporters not individually investigated.

Commerce determined the estimated weighted-average dumping margin for Torraspapel S.A. entirely under section 776 of the Act. Consequently, pursuant to section 735(c)(5)(B) of the Act and Commerce's practice under these circumstances, we assigned a dumping margin to the “all-others”' companies equal to the simple average of the dumping margins from the Petition.⁹ For a full description of the methodology underlying Commerce's analysis, see the Preliminary Decision Memorandum.

⁹ See, e.g., Notice of Preliminary Determination of Sales at Less Than Fair Value: Sodium Nitrite from the Federal Republic of Germany, 73 FR 21909, 21912 (April 23, 2008), unchanged in Notice of Final Determination of Sales at Less Than Fair Value: Sodium Nitrite from the Federal Republic of Germany, 73 FR 38986, 38987 (July 8, 2008), and accompanying Issues and Decision Memorandum at Comment 2; Notice of Final Determination of Sales at Less Than Fair Value: Raw Flexible Magnets from Taiwan, 73 FR 39673, 39674 (July 10, 2008); Steel Threaded Rod from Thailand: Preliminary Determination of Sales at Less Than Fair Value and Affirmative Preliminary Determination of Critical Circumstances, 78 FR 79670, 79671 (December 31, 2013), unchanged in Steel Threaded Rod from Thailand: Final Determination of Sales at Less Than Fair Value and Affirmative Final Determination of Critical Circumstances, 79 FR 14476, 14477 (March 14, 2014); Petitioners' Letter, “Petitions for the Imposition of Antidumping Duties on Imports of Thermal Paper From Germany, Japan, Korea, and Spain,” dated October 7, 2020 at Volume V; Petitioners' Letter, “Response of Petitioners to Volumes I-V Supplemental Questionnaires: Thermal Paper from Germany, Japan, Korea, and Spain,” dated October 16, 2020 at section “Petitioners' Responses to Supplemental Questions Regarding Volume V”; and Checklist, “Enforcement and Compliance Office of AD/CVD Operations Antidumping Duty Investigation Initiation Checklist: Thermal Paper from Spain,” dated October 27, 2020.

Final Determination

The final estimated weighted-average dumping margins are as follows:

Exporter/producer | Estimated weighted-average dumping margin (percent)
Torraspapel S.A. | 41.45
All Others | 37.07

Disclosure

Normally, Commerce discloses to interested parties the calculations performed in connection with a final determination within five days of any public announcement or, if there is no public announcement, within five days of the date of publication of the notice of final determination in the Federal Register, in accordance with 19 CFR 351.224(b). However, because Commerce applied AFA to the mandatory respondent in this investigation, Torraspapel, S.A., in accordance with section 776 of the Act, and the AFA dumping margin is based solely on the petition, there are no calculations to disclose.

Continuation of Suspension of Liquidation

In accordance with section 735(c)(1)(B) of the Act, Commerce will instruct U.S. Customs and Border Protection (CBP) to continue to suspend liquidation of all appropriate entries of thermal paper from Spain, as described in the appendix to this notice, which were entered, or withdrawn from warehouse, for consumption on or after May 12, 2021, the date of publication in the Federal Register of the affirmative Preliminary Determination.

Pursuant to section 735(c)(1)(B)(ii) of the Act and 19 CFR 351.210(d), we will instruct CBP to require a cash deposit for such entries of merchandise equal to the following amounts: (1) The cash deposit rate for Torraspapel S.A is equal to the company-specific estimated weighted-average dumping margin listed for Torraspapel S.A in the table in the “Final Determination” section of this notice; (2) if the exporter is not identified in the table in the “Final Determination” section of this notice, but the producer is, then the cash deposit rate will be equal to the company-specific estimated weighted-average dumping margin for the producer of the subject merchandise; and (3) the cash deposit rate for all other producers and exporters in Spain is equal to the all-others estimated weighted-average dumping margin listed in the table in the “Final Determination” section of this notice.

These suspension-of-liquidation instructions will remain in effect until further notice.

International Trade Commission Notification

In accordance with section 735(d) of the Act, we will notify the International Trade Commission (ITC) of this final affirmative determination of sales at LTFV. Because Commerce's final determination is affirmative, in accordance with section 735(b)(2) of the Act, the ITC will make its final determination as to whether the domestic industry in the United States is materially injured, or threatened with material injury, by reason of imports or sales (or the likelihood of sales) for importation of thermal paper from Spain no later than 45 days after this final determination. If the ITC determines that such injury does not exist, this proceeding will be terminated, and all cash deposits posted will be refunded and suspension of liquidation will be lifted. If the ITC determines that such injury does exist, Commerce will issue an antidumping duty order directing CBP to assess, upon further instruction by Commerce, antidumping duties on all imports of the subject merchandise entered, or withdrawn from warehouse, for consumption on or after the effective date of the suspension of liquidation, as discussed above in the “Continuation of Suspension of Liquidation” section of this notice.

Notification Regarding Administrative Protective Order

This notice will serve as a final reminder to the parties subject to an administrative protective order (APO) of their responsibility concerning the disposition of proprietary information disclosed under APO in accordance with 19 CFR 351.305(a)(3). Timely written notification of the return or destruction of APO materials or conversion to judicial protective order is hereby requested. Failure to comply with the regulations and the terms of an APO is a sanctionable violation.

Notification to Interested Parties

This determination and this notice are issued and published in accordance with sections 735(d) and 777(i)(1) of the Act and 19 CFR 351.210(c).

Dated: September 24, 2021.
Christian Marsh,
Acting Assistant Secretary for Enforcement and Compliance.

Appendix

Scope of the Investigation

The scope of this investigation covers thermal paper in the form of “jumbo rolls” and certain “converted rolls.” The scope covers jumbo rolls and converted rolls of thermal paper with or without a base coat (typically made of clay, latex, and/or plastic pigments, and/or like materials) on one or both sides; with thermal active coating(s) (typically made of sensitizer, dye, and co-reactant, and/or like materials) on one or both sides; with or without a top coat (typically made of pigments, polyvinyl alcohol, and/or like materials), and without an adhesive backing. Jumbo rolls are defined as rolls with an actual width of 4.5 inches or more, an actual weight of 65 pounds or more, and an actual diameter of 20 inches or more (jumbo rolls). All jumbo rolls are included in the scope regardless of the basis weight of the paper. Also included in the scope are “converted rolls” with an actual width of less than 4.5 inches, and with an actual basis weight of 70 grams per square meter (gsm) or less.

The scope of this investigation covers thermal paper that is converted into rolls with an actual width of less than 4.5 inches and with an actual basis weight of 70 gsm or less in third countries from jumbo rolls produced in the subject countries.

The merchandise subject to this investigation may be classified in the Harmonized Tariff Schedule of the United States (HTSUS) under subheadings 4811.90.8030 and 4811.90.9030. Although HTSUS subheadings are provided for convenience and customs purposes, the written description of the scope of this investigation is dispositive.

[FR Doc. 2021-21304 Filed 9-29-21; 8:45 am]

BILLING CODE 3510-DS-P